SOCIAL SECURITY ADMINISTRATION

Agency Information Collection Activities: Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, DCRDP, Attn: Reports Clearance Director, 107 Altmeyer Building, 6401 Security Blvd., Baltimore, MD 21235, Fax: 410-966-2830, Email address: OPLM.RCO@ssa.gov.

SSA submitted the information collections below to OMB for clearance. Your comments regarding the information collections would be most useful if OMB and SSA receive them 30 days from the date of this publication. To be sure we consider your comments, we must receive them no later than July 16, 2012. Individuals can obtain copies of the OMB clearance packages by writing to OPLM.RCO@ssa.gov.

1. Claimant's Medication—20 CFR 404.1512, 416.912—0960-0289. In cases where claimants request a hearing after denial of their claim for Social Security benefits, SSA uses Form HA-4632 to request information from the claimant regarding the medications they are using. This information helps the administrative law judge overseeing the case to fully investigate (1) the claimant's medical treatment and (2) the effects of the medications on the claimant's medical impairments and functional capacity. The respondents are applicants (or their representatives) for Social Security benefits or payments requesting a hearing to contest an agency denial of their claim.

Type of Request: Revision of an OMB-approved information collection.

Collection method | Number of respondents | Frequency of response | Average burden per response (minutes) | Estimated total annual burden (hours)
HA-4632 (paper) | 20,000 | 1 | 15 | 5,000
Electronic Records Express | 180,000 | 1 | 15 | 45,000
Total | 200,000 |  |  | 50,000

2. Representative Payee Report-Special Veterans Benefits—20 CFR 408.665—0960-0621. Title VIII of the Social Security Act allows for payment of monthly Social Security benefits to qualified World War II veterans residing outside the United States. An SSA-appointed representative payee may receive and manage the monthly payment for the beneficiary's use and benefit. SSA uses Form SSA-2001-F6 to determine if the payee is using the benefits properly on behalf of the beneficiary. Respondents are persons or organizations who act on behalf of beneficiaries receiving Special Veterans Benefits and living outside the United States.

Type of Request: Revision of an OMB-approved information collection.

Collection method | Number of respondents | Frequency of response | Average burden per response (minutes) | Estimated Total Annual Burden (hours)
SSA-2001-F6 | 100 | 1 | 10 | 17

Dated: June 12, 2012.
Faye Lipsky,
Reports Clearance Director, Office of Regulations and Reports Clearance, Social Security Administration.

[FR Doc. 2012-14646 Filed 6-14-12; 8:45 am]

BILLING CODE 4191-02-P